NATIONAL FOUNDATION ON THE ARTS AND THE HUMANITIES

National Endowment for the Arts

30-Day Notice for the “Shakespeare in American Communities/Juvenile Justice: Data Collection Forms”; Proposed Collection; Comment Request

AGENCY: National Endowment for the Arts.

ACTION: Notice.

SUMMARY: The National Endowment for the Arts (NEA) has submitted the following public information collection request (ICR) to the Office of Management and Budget (OMB) for review and approval in accordance with the Paperwork Reduction Act of 1995: Shakespeare in American Communities/Juvenile Justice: Data Collection Forms for subawardees, which will include a data collection form for teaching artists and supplemental application and final report forms. Copies of this ICR, with applicable supporting documentation, may be obtained by visiting www.Reginfo.gov.

DATES: Written comments must be submitted to the office listed in the address section below within 30 days from the date of this publication in the Federal Register.

ADDRESSES: Written comments and recommendations for proposed information collection requests should be sent within 30 days of publication of this Notice to www.reginfo.gov/public/do/PRAMain. Find this particular information collection request by selecting “National Endowment for the Arts” under “Currently Under Review;” then check “Only Show ICR for Public Comment” checkbox. Once you have found this information collection request, select “Comment,” and enter or upload your comment and information. Alternatively, comments can be sent to the Office of Information and Regulatory Affairs, Attn: OMB Desk Officer for the National Endowment for the Arts, Office of Management and Budget, Room 10235, Washington, DC 20503, or call (202) 395-7316, within 30 days from the date of this publication in the Federal Register.

SUPPLEMENTARY INFORMATION: The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: National Endowment for the Arts.

Title: Shakespeare in American Communities/Juvenile Justice: Data Collection Forms.

OMB Number: New.

Frequency: Web survey administered twice annually, annual supplemental applicant and final report forms.

Affected Public: Nonprofit organizations and individuals.

Estimated Number of Respondents: 35. 20 teaching artists per year responding to the web survey (administered twice annually), and around 15 institutions per year for both the supplemental application and supplemental final report forms.

Estimated time per respondent: 1.69 hours (average).

Total Burden Hours: 59 hours.

Total annualized capital/startup costs: 0.

Total annual costs (operating/maintaining systems or purchasing services): 0.

Description: Shakespeare in American Communities (SiAC) is a theater program that brings professional performances of William Shakespeare's plays and related educational activities to middle and high school students in communities across the United States, including youth in juvenile justice facilities. The National Endowment for the Arts (NEA) is the lead funder of the program, which is administered by an organization engaged by the NEA under a cooperative agreement (the Cooperator). This request is for a new data collection associated with SiAC juvenile justice subawards (SiAC/JJ): a teaching artist web form that has not been conducted in the past, as well as two supplemental forms—a supplemental application form and a supplemental final report form for subrecipients. This new data collection provides the NEA with enhanced capability for monitoring program performance of juvenile justice subawards, including understanding how subaward projects are implemented and outcomes associated with each project. Specifically, NEA and the Cooperator will use data from the forms to collect information on the inputs, activities, and outputs of each subrecipient program identified in the program's measurement framework. In addition, information from the teaching artist data collection form will be used to understand student and teacher outcomes and potential successes that resulted from the subrecipient programs. The data will inform internal NEA and Cooperator discussions about project implementation and performance, potential program improvements, and decision-making related to this program. The Cooperator may also use the data to report on successes of the program in reports and storytelling. This request is for a full clearance to administer the web survey and supplemental forms.

Dated: August 14, 2024.
RaShaunda Thomas,
Administrative Officer (Deputy), Office of Administrative Services & Contracts, National Endowment for the Arts.

[FR Doc. 2024-18524 Filed 8-16-24; 8:45 am]

BILLING CODE 7537-01-P